DEPARTMENT OF AGRICULTURE

Forest Service

North Gifford Pinchot National Forest Resource Advisory Committee Meeting Notice

AGENCY: Forest Service, USDA.

ACTION: Notice of meeting.

SUMMARY: The North Gifford Pinchot National Forest Resource Advisory Committee will meet on Tuesday, February 12, 2002, at the Lewis County Law and Justice Center (old county annex building), 345 West Main Street, Chehalis, Washington. The meeting will begin at 10 a.m. and continue until 5 p.m. The purpose of the meeting is to:

(1) Consider staffing needs,

(2) Discuss the project approval process, and

(3) Provide for a Public Open Forum.

All North Gifford Pinchot National Forest Resource Advisory Committee meetings are open to the public. Interested citizens are encouraged to attend. The “open forum” provides opportunity for the public to bring issues, concerns, and discussion topics to the Advisory Committee. The “open forum” is scheduled as part of agenda item (3) for this meeting. Interested speakers will need to register prior to the open forum period. The committee welcomes the public's written comments on committee business at any time.

FOR FURTHER INFORMATION CONTACT: Direct questions regarding this meeting to Tom Knappenberger, Public Officer, at (360) 891-5005, or written Forest Headquarters Office, Gifford Pinchot National Forest, 10600 NE. 51st Circle, Vancouver, WA 98682.

Dated: January 25, 2002.
Claire Lavendel,
Forest Supervisor.

[FR Doc. 02-2311 Filed 1-30-02; 8:45 am]

BILLING CODE 3410-11-M